DEPARTMENT OF JUSTICE

National Institute of Corrections

Solicitation for a Cooperative Agreement: Subject Matter Experts Meetings on Organizational Culture and Performance

AGENCY: National Institute of Corrections, Department of Justice.

ACTION: Solicitation for a cooperative agreement.

SUMMARY: The National Institute of Corrections (NIC) is soliciting proposals from organizations, groups, or individuals to enter into a cooperative agreement for a 12-month period to begin in September, 2009. Work under this cooperative agreement will involve organizing up to four meetings of subject matter experts to assist NIC and the corrections field in ongoing work in the area of organizational culture and performance. Likely topics for the meetings include improving methods for evaluating organizational culture assessments using focus groups, the use of staff surveys in correctional agencies, culture change in correctional systems, and culture assessment and change in community corrections agencies.

DATES: Applications must be received by 4 p.m. (EDT) on Friday, August 14, 2009. Selection of the successful applicant and notification of review results to all applicants: September 15, 2009.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup.

Faxed or e-mailed applications will not be accepted. Electronic applications can be submitted via http://www.grants.gov.

FOR FURTHER INFORMATION CONTACT: A copy of this announcement can be downloaded from the NIC Web site at http://www.nicic.gov/cooperativeagreements.

All technical or programmatic questions concerning this announcement should be directed to Pamela Davison. She can be reached by calling 1-800-995-6423 ext 0484 or by e-mail at pdavison@bop.gov.

SUPPLEMENTARY INFORMATION: The recipient of the award under this cooperative agreement will organize and coordinate all logistical details for up to four meetings of subject matter experts in various aspects of organizational culture and performance as it applies to corrections. All expenses for these meetings, expected to last up to two days for up to 10 people, will be provided out of the funding awarded under this agreement. Participants for each meeting will be identified by NIC, and the location of the meetings will be determined by NIC based on the geographic distribution of the participants, but will take place within the contiguous 48 States.

The recipient of this award will assist NIC in locating an appropriate venue and coordinating local arrangements at the site, including meeting rooms, food, and beverage services. The recipient will also assist participants in arranging travel and lodging, and in reimbursing costs in conformity with Federal guidelines. Some participants may also be eligible to receive up to $500 per day for their participation. For each meeting, one or two white papers may be prepared by individual participants to form the basis for discussion of the selected topic. Additional days, up to $500 per day, may be paid to eligible authors of white papers. (Note that the payment of these daily rates are to be provided out of the funding awarded under this agreement.)

With input from NIC, the recipient will prepare each meeting agenda, participant lists, white papers, handouts, and supplementary materials, duplicate them in sufficient quantities, and deliver them to the venue. With input from NIC, the recipient will also supply or arrange for a facilitator for some meetings to be paid out of the funding awarded under this agreement. The recipient will also provide a note taker for each meeting.

Deliverables: By the end of the project, the recipient of this award will deliver the following products: (1) Detailed notes of the proceedings of each meeting, including transcriptions of any other written material produced during the meeting, such as the contents of flip charts; (2) Each of the white papers produced for the meetings, edited to be suitable for distribution to corrections practitioners and delivered in NIC's standard format; and (3) a summary report providing an overview of the meetings, their major themes, and any recommendations for the field.

Required Expertise: Successful applicants should have the organizational capacity to carry out all the tasks listed above, including demonstrated experience in organizing meetings of the size and type described. Preference will also be given to applicants with a record of working with similar subject matter expert groups in criminal justice.

Application Requirements: Applications should be concisely written, typed double spaced and reference the “NIC Opportunity Number” and Title provided in this announcement. Please limit the program narrative text to 20 double spaced, numbered pages. The application package must include: a cover letter that identifies the audit agency responsible for the applicant's financial accounts as well as the audit period or fiscal year that the applicant operates under (e.g., July 1 through June 30), a program narrative responding to the requirements in this announcement, a description of the qualifications of the applicant(s), an outline explaining projected costs, and the following forms: OMB Standard Form 424, Application for Federal Assistance, OMB Standard Form 424A, Budget Information—Non Construction Programs, OMB Standard Form 424B, Assurances—Non Construction Programs (these forms are available at http://www.grants.gov) and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there must be one, unbound original plus three copies of the full proposal (program and budget narratives, application forms and assurances). The original should have the applicant's signature in blue ink.

Authority: Public Law 93-415.

Funds Available: Up to $100,000 is available for this project, subject to available funding, but preference will be given to applicants who provide the most cost efficient solutions in accomplishing the scope of work. Determination will be made based on best value to the Government, not necessarily the lowest bid. Funds may only be used for the activities that are directly related to the project.

Eligibility of Applicants: An eligible applicant is any public or private agency, educational institution, organization, individual or team with expertise in the described areas.

This project will be a collaborative venture with the NIC Research and Evaluation Division.

Review Considerations: Applications received under this announcement will be subject to the NIC Review Process. The criteria for the evaluation of each application will be as follows:

Organizational (75%)

Does the applicant have the necessary capacity and staff with the skills, knowledge, and expertise to demonstrate a high level of competency to carry out the tasks? Are the proposed project management and staffing plans realistic and sufficient to complete the project? Has the organization had past experience in organizing similar events in the criminal justice area?

Budget (25%)

Is the proposed budget realistic, provide sufficient cost detail/narrative, and represent good value relative to the anticipated results? Is there evidence that the applicant has proposed the most cost effective way of performing the work? Are there any innovative strategies proposed to contain costs?

Note: NIC will not award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Publications produced under this award must follow the “Guidelines for Preparing and Submitting Manuscripts for Publication” as found in the General Guidelines for Cooperative Agreements which will be included in the award package.

Number of Awards: One.

NIC Opportunity Number: 09PEI30. This number should appear as a reference line in the cover letter, where the opportunity number is requested on the Standard Form 424, and outside of the envelope in which the application is sent.

Catalog of Federal Domestic Assistance Number: 16.602. Executive Order 12372: This program is not subject to the provisions of Executive Order 12372.

Morris L. Thigpen,
Director, National Institute of Correction.

[FR Doc. E9-16744 Filed 7-14-09; 8:45 am]

BILLING CODE 4410-36-P